DEPARTMENT OF ENERGY

[OE Docket No. PP-89-2]

Application To Amend Presidential Permit; Bangor Hydro-Electric Company

AGENCY: Office of Electricity Delivery and Energy Reliability, DOE.

ACTION: Notice of Application.

SUMMARY: Bangor Hydro-Electric Company (BHE) has applied to amend the Presidential permit issued in Order No. PP-89-1.

DATES: Comments, protests, or requests to intervene must be submitted on or before July 20, 2009.

ADDRESSES: Comments, protests, or requests to intervene should be addressed as follows: Office of Electricity Delivery and Energy Reliability (OE-20), U.S. Department of Energy, 1000 Independence Avenue, SW., Washington, DC 20585.

FOR FURTHER INFORMATION CONTACT: Lamont Jackson (Program Office) at 202-586-0808, or by e-mail to Lamont.Jackson@hq.doe.gov, or Michael T. Skinker (Program Attorney) at 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On December 30, 2005, DOE issued a Presidential permit to BHE in Order No. PP-89-1, authorizing it to construct a 345,000-volt (345-kV) transmission line that originates at BHE's Orrington, Maine, substation and extends approximately 85 miles eastward crossing the U.S. international border with Canada in the vicinity of Baileyville, Maine. Article 3 of that Order limited operation of the permitted facilities, in combination with the 345-kV international transmission line owned by Maine Electric Power Company (MEPCo; Presidential Permit PP-43), to an instantaneous rate of transmission of 1,000 MW in the import mode and 400 MW in the export mode.

On April 17, 2009, BHE applied to DOE to amend Presidential Permit PP-89-1 by increasing the export limit contained in Article 3 from 400 MW to 550 MW. To support its application, BHE has provided engineering studies that demonstrate that the addition of the PP-89-1 facilities, along with upgrades to the MEPCo 345-kV international transmission facility, can allow for scheduled electric power flows across the New Brunswick-New England Interface in continuous quantities up to 550 MW in the export mode.

When DOE issues electricity export authorizations or Presidential permits, it routinely places limits on the amount of power allowed to be exported or transmitted over a permitted international transmission line. DOE usually defines these power limits as the “maximum instantaneous rate of transmission.” In its application, BHE also has requested that DOE change the way it refers to this limit to “scheduled rate of transmission.” BHE asserts that this is a clearer description of how energy is scheduled and actually flows over the power system in North America. BHE's application further asserts that “an instantaneous flow that exceeds a scheduled flow for a short period presents no material reliability risk.” DOE specifically seeks comment on the appropriateness of using this new way of referring to the power limits placed in export authorizations and Presidential permits.

Procedural Matters: Any person desiring to become a party to this proceeding or to be heard by filing comments or protests to this application should file a petition to intervene, comment or protest at the address provided above in accordance with § 385.211 or 385.214 of the Federal Energy Regulatory Commission's (FERC) Rules of Practice and Procedures (18 CFR 385.211, 385.214). Fifteen copies of each comment, petition and protest should be filed with DOE on or before the date listed above.

Additional copies of such petitions to intervene or protests also should be filed directly with: Mr. Robert J.S. Hanf, Bangor Hydro Electric Co., 21 Telcom Drive, Bangor, ME 04402; and Mr. James Spurr, Emera, Inc., 1894 Barrington Street, Barrington Tower, Halifax, Nova Scotia, Canada B3J2A8.

Before a Presidential permit may be granted or amended, DOE must determine that the proposed action will not adversely impact on the reliability of the U.S. electric power supply system. In addition, DOE must consider the environmental impacts of the proposed action (i.e., granting the Presidential permit or amendment, with any conditions and limitations, or denying the permit) pursuant to the National Environmental Policy Act of 1969. DOE also must obtain the concurrences of the Secretary of State and the Secretary of Defense before taking final action on a Presidential permit application.

Copies of this application will be made available, upon request, for public inspection and copying at the address provided above. In addition, the application may be reviewed or downloaded electronically at http://www.oe.energy.gov/permitting/electricity_imports_exports.htm. Upon reaching the home page, select “Pending Applications.”

Issued in Washington, DC, on June 16, 2009.
Anthony J. Como,
Director, Permitting and Siting, Office of Electricity Delivery and Energy Reliability.

[FR Doc. E9-14447 Filed 6-18-09; 8:45 am]

BILLING CODE 6450-01-P